DEPARTMENT OF JUSTICE

[OMB Number 1110-0058]

Agency Information Collection Activities; Proposed eCollection eComments Requested; Extension of a Previously Approved Collection; Title—National Incident-Based Reporting System (NIBRS)

AGENCY: Criminal Justice Information Services Division, Federal Bureau of Investigation, DOJ.

ACTION: 60-Day notice.

SUMMARY: The Criminal Justice Information Services (CJIS) Division, FBI, DOJ, will be submitting the following information collection request to the Office of Management and Budget (OMB) for review and approval in accordance with the Paperwork Reduction Act of 1995.

DATES: Comments are encouraged and will be accepted for 60 days until February 10, 2026.

FOR FURTHER INFORMATION CONTACT: If you have additional comments, especially on the estimated public burden or associated response time, suggestions, or need a copy of the proposed information collection instrument with instructions or additional information, please contact Chad M. Garman, Acting Unit Chief, Crime and Law Enforcement Statistics Unit, FBI, CJIS Division, Module D-2, 1000 Custer Hollow Road, Clarksburg, West Virginia 26306, 771-230-3959, or at ucr@fbi.gov.

SUPPLEMENTARY INFORMATION: Written comments and suggestions from the public and affected agencies concerning the proposed collection of information are encouraged. Your comments should address one or more of the following four points:

—Evaluate whether the proposed collection of information is necessary for the proper performance of the functions of the FBI, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology (e.g., permitting electronic submission of responses).

Abstract: Under the Uniform Federal Crime Reporting Act of 1988, 34 U.S.C. 41303; the DOJ's authority regarding the acquisition, preservation, and exchange of identification records and information, 28 U.S.C. 534; the USA Patriot Improvement and Reauthorization Act of 2005, Public Law 109-177, 120 Stat. 193; the William Wilberforce Trafficking Victims Protection Reauthorization Act of 2008, 34 U.S.C. 41309; and the Hate Crimes Statistics Act, 34 U.S.C. 41305, this collection requests incident data from federal, state, local, tribal, and territorial law enforcement agencies (LEAs) in order for the FBI's Uniform Crime Reporting (UCR) Program to serve as the national clearinghouse for the collection and dissemination of incident data. The traditional Summary Reporting System (SRS), managed by the FBI's UCR Program since the 1930s, includes 10 crimes and employs the Hierarchy Rule (i.e., in a multiple-offense incident, only the most serious crime is reported). In contrast, NIBRS includes 28 offense categories made up of 71 specific crimes (i.e., Group A offenses) and allows LEAs to report up to 10 of those offenses associated with an incident. For each of these offenses, LEAs collect administrative, offense, property, victim, offender, and arrestee information. Arrest data only are reported for an additional 10 Group B offenses. The level of detail is the most significant difference between NIBRS and SRS and the NIBRS data submitted to the FBI's UCR Program are generated as a byproduct of a LEA's records management system.

Overview of This Information Collection

1. Type of Information Collection: Extension of a previously approved collection.

2. The Title of the Form/Collection: National Incident-Based Reporting System (NIBRS).

3. The agency form number, if any, and the applicable component of the department sponsoring the collection: The form number is 1110-0058. The applicable component within DOJ is the CJIS Division, FBI.

4. Affected public who will be asked or required to respond, as well as the obligation to respond: Primary: Federal, state, local, tribal, and territorial LEAs. The obligation to respond is mandatory for federal agencies and voluntary for non-federal agencies.

5. An estimate of the total number of respondents and the amount of time estimated for an average respondent to respond: At the end of 2024, the estimated number of LEAs certified to submit crime data to the FBI's UCR Program via NIBRS totaled 16,788. Each month, it takes approximately two hours for an average respondent to respond, which is an annual burden of 24 hours. The two hours is the time required for a LEA's records management system to download the NIBRS data and send the information to the FBI.

6. An estimate of the total public burden (in hours) associated with the collection: The estimated annual public burden associated with the NIBRS data collection for LEAs is 402,912 hours (201,456 responses × 2 hours per response = 402,912 total annual hours). An additional 300 burden hours for state UCR program and local LEA outreach is requested by the FBI's UCR Program, leading to an estimated total of 403,212 burden hours for the collection.

7. An estimate of the total annual cost burden associated with the collection, if applicable. The estimated monetary cost burden for supplies, storage, or the like for this information collection is $0. Incident reports are submitted through an online system maintained by the FBI.

Total Burden Hours for LEAs
Activity | Number of potential respondents | Frequency | Total annual responses | Time per response (hours) | Total annual burden (hours)
NIBRS Data Collection | 16,788 | Variable | 201,456 | 2 | 402,912
Unduplicated Totals | 16,788 |  | 201,456 |  | 402,912

If additional information is required, contact: Darwin Arceo, Department Clearance Officer, United States Department of Justice, Justice Management Division, Enterprise Portfolio Management, Two Constitution Square, 145 N Street NE, 4W-218.405A, Washington, DC.

Dated: November 10, 2025.
Darwin Arceo,
Department Clearance Officer for PRA, U.S. Department of Justice.

[FR Doc. 2025-22648 Filed 12-11-25; 8:45 am]

BILLING CODE 4410-02-P